DEPARTMENT OF LABOR

Occupational Safety and Health Administration

[Docket No. ICR-1218-0225(2002)]

Telecommunications; Extension of the Office of Management and Budget's Approval of Information-Collection (Paperwork) Requirements

AGENCY: Occupational Safety and Health Administration (OSHA), Labor.

ACTION: Request for comment.

SUMMARY: OSHA requests comment concerning its proposed extension of the information-collection requirement specified in the Standard on Telecommunications (29 CFR 1910.268(c)) to develop and maintain records certifying that employees have been trained as outlined in the Standard.

DATES: Submit written comments on or before July 2, 2002.

ADDRESSES: Submit written comments to the Docket Office, Docket No. ICR-1218-0225(2002), OSHA, U.S. Department of Labor, Room N-2625, 200 Constitution Avenue, NW., Washington, DC 20210; telephone (202) 693-2350. Commenters may transmit written comments of 10 pages or less by facsimile to: (202) 693-1648.

FOR FURTHER INFORMATION CONTACT: Theda Kenney, Directorate of Safety Standards Programs, OSHA, U.S. Department of Labor, Room N-3609, 200 Constitution Avenue, NW, Washington, DC 20210; telephone (202) 693-2222. A copy of the Agency's Information-Collection Report (ICR) supporting the need for the information collection specified in the Standard on Telecommunications is available for inspection and copying in the Docket Office, or by requesting a copy from Theda Kenney at (202) 693-2222 or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information-collection burden is correct.

The Telecommunications Standard specified one collection of information (paperwork) requirement. The following section describes who uses the information collected under the requirement, as well as how they use it. Based on previous ICR approvals, OSHA has determined that the training requirement in paragraph (c) of the Standard is not a collection of information under the Paperwork Reduction Act.

Training (paragrah (c)). Under the paperwork requirement specified by paragraph (c) of the Standard, employers must certify that his or her employees have been trained as outlined in the Standard by preparing a certification record which includes the identity of the person trained, the signature of the employer or the person who conducted the training, and the date the training was completed. The certification record shall be prepared at the completion of training and shall be maintained on file for the duration of the employee's employment. The information collection would be used by compliance officers to determine that employees have been properly trained according to the requirements set forth in 29 CFR 1910.268(c).

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to extend the Office of Management and Budget's (OMB) approval of the collection-of-information requirements specified in the Standard on Telecommunications (29 CFR 1910.28). OSHA will summarize the comments submitted in response to this notice, and will include this summary in its request to OMB to extend the approval of the information-collection requirement.

Type of Review: Extension of a currently-approved information-collection requirement.

Title: Telecommunications (Training Certification) (29 CFR 1910.268(c)).

OMB Number: 1218-0225.

Affected Public: Business or other for-profit; not-for-profit institutions; Federal government; State, local or tribal governments.

Number of Respondents: Varies, there are about 306 employers with approximately 1.1 million employees.

Frequency: On occasion.

Average Time per Response: Varies from 2 minutes (.03 hour) to 4 minutes (.07 hour).

Estimated Total Burden Hours: 7,487.

IV. Authority and Signature

John L. Henshaw, Assistant Secretary of Labor for Occupational Safety and Health, directed the preparation of this notice. The authority for this notice is the Paperwork Reduction Act of 1995 (44 U.S.C. 3506) and Secretary of Labor's Order No. 3-2000 (65 FR 50017).

Signed at Washington, DC on Arpil 29, 2002.
John L. Henshaw
Assistant Secretary of Labor.

[FR Doc. 02-11011 Filed 5-2-02; 8:45 am]

BILLING CODE 4510-26-M